DEPARTMENT OF ENERGY

Federal Energy Regulatory Commission

Combined Notice of Filings #1

Take notice that the Commission received the following electric corporate filings:

Docket Numbers: EC17-180-000.

Applicants: American Electric Power Service Corporation, AEP West Virginia Transmission Company, Inc.

Description: Application Under Section 203 of the Federal Power Act to Acquire Transmission Facilities and Request for Certain Waivers of American Electric Power Service Corporation, et al.

Filed Date: 9/15/17.

Accession Number: 20170915-5074.

Comments Due: 5 p.m. ET 10/6/17.

Docket Numbers: EC17-181-000.

Applicants: Rock Creek Wind Project, LLC.

Description: Application for Authorization Under Section 203 of the Federal Power Act, Request for Expedited Consideration and Confidential Treatment of Rock Creek Wind Project, LLC.

Filed Date: 9/15/17.

Accession Number: 20170915-5079.

Comments Due: 5 p.m. ET 10/6/17.

Take notice that the Commission received the following electric rate filings:

Docket Numbers: ER17-437-005.

Applicants: Marcus Hook 50, L.P.

Description: Report Filing: Refund report to be effective N/A.

Filed Date: 9/14/17.

Accession Number: 20170914-5061.

Comments Due: 5 p.m. ET 10/5/17.

Docket Numbers: ER17-2214-001.

Applicants: Great Valley Solar 2, LLC.

Description: Tariff Amendment: Great Valley Solar 2, LLC Amended Certificate of Concurrence to SFA to be effective 10/1/2017.

Filed Date: 9/15/17.

Accession Number: 20170915-5069.

Comments Due: 5 p.m. ET 9/22/17.

Docket Numbers: ER17-2215-001.

Applicants: Great Valley Solar 2, LLC.

Description: Tariff Amendment: Great Valley Solar 2, LLC Amended Certificate of Concurrence to LGIA CTA to be effective 10/1/2017.

Filed Date: 9/15/17.

Accession Number: 20170915-5072.

Comments Due: 5 p.m. ET 9/22/17.

Docket Numbers: ER17-2417-001.

Applicants: Great Valley Solar 3, LLC.

Description: Tariff Amendment: Great Valley Solar 3, LLC Amendment to Certificate of Concurrence to LGIA CTA to be effective 10/1/2017.

Filed Date: 9/15/17.

Accession Number: 20170915-5073.

Comments Due: 5 p.m. ET 9/22/17.

Docket Numbers: ER17-2418-001.

Applicants: Great Valley Solar 3, LLC.

Description: Tariff Amendment: Great Valley Solar 3, LLC Amendment to Certificate of Concurrence to SFA to be effective 10/1/2017.

Filed Date: 9/15/17.

Accession Number: 20170915-5076.

Comments Due: 5 p.m. ET 9/22/17.

Docket Numbers: ER17-2476-000.

Applicants: Palmco Power DC, LLC.

Description: § 205(d) Rate Filing: Ancillary Sales to be effective11/13/2017.

Filed Date: 9/14/17.

Accession Number: 20170914-5146.

Comments Due: 5 p.m. ET 10/5/17.

Docket Numbers: ER17-2477-000.

Applicants: Palmco Power MD, LLC.

Description: § 205(d) Rate Filing: Ancillary Sales to be effective11/13/2017.

Filed Date: 9/14/17.

Accession Number: 20170914-5147.

Comments Due: 5 p.m. ET 10/5/17.

Docket Numbers: ER17-2478-000.

Applicants: Palmco Power NH, LLC.

Description: § 205(d) Rate Filing: Ancillary Sales to be effective9/14/2017.

Filed Date: 9/14/17.

Accession Number: 20170914-5148.

Comments Due: 5 p.m. ET 10/5/17.

Docket Numbers: ER17-2479-000.

Applicants: Palmco Power OH, LLC.

Description: § 205(d) Rate Filing: Ancillary Sales to be effective11/13/2017.

Filed Date: 9/15/17.

Accession Number: 20170915-5000.

Comments Due: 5 p.m. ET 10/6/17.

Docket Numbers: ER17-2480-000.

Applicants: Palmco Power RI, LLC.

Description: § 205(d) Rate Filing: Ancillary Sales to be effective11/13/2017.

Filed Date: 9/15/17.

Accession Number: 20170915-5001.

Comments Due: 5 p.m. ET 10/6/17.

Docket Numbers: ER17-2481-000.

Applicants: Palmco Power MA, LLC.

Description: § 205(d) Rate Filing: Ancillary Sales to be effective 11/13/2017.

Filed Date: 9/15/17.

Accession Number: 20170915-5002.

Comments Due: 5 p.m. ET 10/6/17.

Docket Numbers: ER17-2482-000.

Applicants: Palmco Power NJ, LLC.

Description: § 205(d) Rate Filing: Ancillary Sales to be effective 11/13/2017.

Filed Date: 9/15/17.

Accession Number: 20170915-5003.

Comments Due: 5 p.m. ET 10/6/17.

Docket Numbers: ER17-2483-000.

Applicants: Palmco Power VA, LLC.

Description: § 205(d) Rate Filing: Ancillary Sales to be effective 11/13/2017.

Filed Date: 9/15/17.

Accession Number: 20170915-5004.

Comments Due: 5 p.m. ET 10/6/17.

Docket Numbers: ER17-2484-000.

Applicants: Palmco Power CT, LLC.

Description: § 205(d) Rate Filing: Ancillary Services to be effective 11/13/2017.

Filed Date: 9/15/17.

Accession Number: 20170915-5005.

Comments Due: 5 p.m. ET 10/6/17.

Docket Numbers: ER17-2485-000.

Applicants: Palmco Power MI, LLC.

Description: § 205(d) Rate Filing: Ancillary Sales to be effective 11/13/2017.

Filed Date: 9/15/17.

Accession Number: 20170915-5006.

Comments Due: 5 p.m. ET 10/6/17.

Docket Numbers: ER17-2486-000.

Applicants: Palmco Power NY, LLC.

Description: § 205(d) Rate Filing: Ancillary Sales to be effective 11/13/2017.

Filed Date: 9/15/17.

Accession Number: 20170915-5007.

Comments Due: 5 p.m. ET 10/6/17.

Docket Numbers: ER17-2487-000.

Applicants: Palmco Power ME, LLC.

Description: § 205(d) Rate Filing: Ancillary Sales to be effective 11/13/2017.

Filed Date: 9/15/17.

Accession Number: 20170915-5008.

Comments Due: 5 p.m. ET 10/6/17.

Docket Numbers: ER17-2488-000.

Applicants: Palmco Power IL, LLC.

Description: § 205(d) Rate Filing: Ancillary Sales to be effective 11/13/2017.

Filed Date: 9/15/17.

Accession Number: 20170915-5009.

Comments Due: 5 p.m. ET 10/6/17.

Docket Numbers: ER17-2489-000.

Applicants: Arizona Public Service Company.

Description: Arizona Public Service Company submits notification of an Umbrella Attachment A-1, in connection with certain Service Agreements and APS contract.

Filed Date: 9/13/17.

Accession Number: 20170913-5137.

Comments Due: 5 p.m. ET 10/4/17.

Docket Numbers: ER17-2490-000.

Applicants: Palmco Power CA, LLC.

Description: § 205(d) Rate Filing: Ancillary Services to be effective 11/13/2017.

Filed Date: 9/15/17.

Accession Number: 20170915-5010.

Comments Due: 5 p.m. ET 10/6/17.

Docket Numbers: ER17-2491-000.

Applicants: Midcontinent Independent System Operator, Inc.

Description: § 205(d) Rate Filing: 2017-09-15_SA 3048 Washington Parish-Entergy GIA (J792) to be effective 8/31/2017.

Filed Date: 9/15/17.

Accession Number: 20170915-5022.

Comments Due: 5 p.m. ET 10/6/17.

Docket Numbers: ER17-2492-000.

Applicants: Florey Knob Energy LLC.

Description: Baseline eTariff Filing: Florey Knob Energy LLC MBR Filing to be effective 11/16/2017.

Filed Date: 9/15/17.

Accession Number: 20170915-5077.

Comments Due: 5 p.m. ET 10/6/17.

Take notice that the Commission received the following electric securities filings:

Docket Numbers: ES17-57-000.

Applicants: Interstate Power and Light Company.

Description: Application for Authorization to Issue Securities and Request for Waiver of Competitive Bidding Requirements of Interstate Power and Light Company.

Filed Date: 9/15/17.

Accession Number: 20170915-5082.

Comments Due: 5 p.m. ET 10/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2017.
Nathaniel J. Davis, Sr.,
Deputy Secretary.

[FR Doc. 2017-20249 Filed 9-21-17; 8:45 am]

BILLING CODE 6717-01-P